DEPARTMENT OF LABOR

Occupational Safety and Health Administration

29 CFR Part 1910

Occupational Safety and Health Standards

CFR Correction

§ 1910.1043 [Amended]

In Title 29 of the Code of Federal Regulations, Part 1910 (§ 1910.1000 to end of part 1910), revised as of July 1, 2017, on page 297, paragraphs § 1910.1043(i)(1)(i)(A) through (F) are removed.

[FR Doc. 2018-13909 Filed 6-26-18; 8:45 am]

BILLING CODE 1301-00-D